DEPARTMENT OF ENERGY

Federal Energy Regulatory Commission

[Docket No. ER02-935-002, et al.]

Florida Power & Light Company, et al.; Electric Rate and Corporate Regulation Filings

May 1, 2002.

The following filings have been made with the Commission. The filings are listed in ascending order within each docket classification.

1. Florida Power & Light Company

[Docket No. ER02-935-002]

Take notice that on April 26, 2002, Florida Power & Light Company (FPL) filed, pursuant to the Order issued on March 27, 2002 in the above-captioned proceeding, a compliance filing making the required changes to the unelected Interconnection and Operation Agreement between FPL and Broward Development, LLC.

Comment Date: May 17, 2002.

2. Buchanan Generation, LLC

[Docket No. ER02-1638-000]

Take notice that on April 25, 2002, Buchanan Generation, LLC (Buchanan) filed a market rate tariff of general applicability under which it proposes to sell capacity and energy to affiliates and non-affiliates at market-based rates, and to make such sales to franchised public utility affiliates at rates capped by a publicly available regional index price.

Buchanan requests an effective date of June 1, 2002.

Comment Date: May 16, 2002.

3. Illinois Power Company

[Docket No. ER02-1639-000]

Take notice that on April 25, 2002, Illinois Power Company (Illinois Power), filed with the Federal Energy Regulatory Commission (Commission) a Non-Firm Point-to-Point Transmission Service Agreement and a Firm Short-Term Point-to-Point Transmission Service Agreement entered into by Illinois Power and US AG.

Illinois Power requests an effective date of May 1, 2002 for the Agreements and accordingly seeks a waiver of the Commission's notice requirement. Illinois Power states that a copy of this filing has been sent to the customer.

Comment Date: May 16, 2002.

4. Cleco Power LLC

[Docket No. ER02-1640-000]

Take notice that on April 25, 2002, Cleco Power LLC tendered for filing an Interconnection and Operating Agreement between Cleco Power LLC, Cleco Midstream Resources LLC, and Columbian Chemicals Company related to a new cogeneration facility to be constructed at Columbian's plant site in St. Mary Parish, Louisiana. The Interconnection and Operating Agreement sets forth the terms and conditions governing the interconnection between the new facility and Cleco Power LLC's transmission system.

Comment Date: May 16, 2002.

5. California Independent System Operator Corporation

[Docket No. ER02-1641-000]

Take notice that on April 26, 2002, the California Independent System Operator Corporation (ISO) tendered for filing the Interconnected Control Area Operating Agreement (ICAOA) between the ISO and Sacramento Municipal Utility District (SMUD). The ISO requests that the agreement be made effective as of the later of June 1, 2002, or the date that the Western Electricity Coordinating Council (WECC) and North American Electric Reliability Council (NERC) provide final certification of SMUD as a control area operator and authorize SMUD to operate the SMUD control area.

The ISO states that this filing has been served on SMUD and the Public Utilities Commission of the State of California.

Comment Date: May 17, 2002.

6. Progress Energy on Behalf of Florida Power Corporation

[Docket No. ER02-1642-000]

Take notice that on April 26, 2002, Florida Power Corporation (FPC) tendered for filing Service Agreements for Non-Firm and Short-Term Firm Point-to-Point Transmission Service with US AB, London Branch. Service to this Eligible Customer will be in accordance with the terms and conditions of the Open Access Transmission Tariff filed on behalf of FPC.

FPC is requesting an effective date of April 1, 2002 for these Service Agreements. A copy of the filing was served upon the North Carolina Utilities Commission and the Florida Public Service Commission.

Comment Date: May 17, 2002.

7. Duquesne Light Company

[Docket No.ER02-1643-000]

Take notice that on April 26, 2002, Duquesne Light Company (DLC) filed a Service Agreement dated April 25, 2002 with Dominion Energy Marketing, Inc. under DLC's Open Access Transmission Tariff (Tariff). The Service Agreement adds Dominion Energy Marketing, Inc. as a customer under the Tariff. DLC requests an effective date of April 25, 2002 for the Service Agreement.

Comment Date: May 17, 2002.

8. PacifiCorp

[Docket No. ER02-1644-000]

Take notice that on April 26, 2002, PacifiCorp tendered for filing in accordance with 18 CFR 35 of the Federal Energy Regulatory Commission's (Commission) Rules and Regulations, Umbrella Service Agreement No. 70 with the City of Blanding under PacifiCorp's FERC Electric Tariff, Third Revised Volume No. 12

Copies of this filing were supplied to the Utah Public Service Commission and the Public Utility Commission of Oregon.

Comment Date: May 17, 2002.

9. Midwest Independent Transmission System Operator, Inc.

[Docket No. ER02-1645-000]

Take notice that on April 26, 2002, the Midwest Independent Transmission System Operator, Inc. (Midwest ISO) the Administrator of the Mid-Continent Area Power Pool (MAPP) Tariff, pursuant to Section 205 of the Federal Power Act and Federal Energy Regulatory Commission's (Commission) regulations, 18 CFR 35.13 , submitted for filing an unelected Service Agreement for transmission service for Idaho Power Marketing under MAPP Schedule F.

A copy of this filing was sent to Idaho Power Marketing.

Comment Date: May 17, 2002.

10. New England Power Pool

[Docket No. ER02-1646-000]

Take notice that on April 26, 2002, the New England Power Pool (NEPOOL) Participants Committee submitted revisions to NEPOOL Market Rules and Procedures Nos. 7, 7-D and 17. The proposed changes to Market Rule 7 and the addition of Appendix 7-D are intended to more accurately reflect the lost opportunity costs of providers of Automatic Generation Control (AGC) service within the NEPOOL Control Area. The proposed change to Market Rule 17 is intended to provide a mechanism for allocating monthly fixed capacity-type payments made by ISO New England Inc. (ISO-NE) pursuant to mitigation agreements entered into by ISO-NE with the owners of generation resources. An effective date of June 1, 2002 was requested for the changes to Market Rule 7 and Appendix 7-D, and a July 1, 2002 date was requested for the change to Market Rule 17.

The NEPOOL Participants Committee states that copies of these materials were sent to the NEPOOL Participants, Non-Participant Transmission Customers, parties of record in FERC Docket No. ER02-648-000 and the New England state governors and regulatory commissions.

Comment Date: May 17, 2002.

11. San Diego Gas & Electric Company

[Docket No. ER02-1647-000]

Take notice that on April 26, 2002, San Diego Gas & Electric Company (SDG&E) tendered for filing its Service Agreements Numbers 15 and 16 to its FERC Electric Tariff, First Revised Volume No. 6, two interconnection agreements. Both agreements relate to the interconnection of a new generation plant to be owned by CalPeak Power -El Cajon LLC (CalPeak El Cajon). The plant, with a capacity of 49 MW, is being constructed on an expedited basis to meet potential shortfalls in the Western states' electric supplies. It will be located within the City of El Cajon in San Diego County, California, and is expected to begin testing on April 27, 2002, and commercial operation on or about June 1, 2002.

Service Agreement No. 15 is an Expedited Interconnection Facilities Agreement dated April 26, 2002, between SDG&E and CalPeak El Cajon, under which SDG&E will construct the proposed interconnection facilities. Service Agreement No. 16, the Interconnection Agreement between SDG&E and CalPeak Enterprise dated April 26, 2002, establishes interconnection, operation and maintenance responsibilities and associated communications procedures between the parties. SDG&E requests an effective date of April 27, 2002, for both agreements.

SDG&E states that copies of the amended filing have been served on CalPeak El Cajon and on the California Public Utilities Commission.

Comment Date: May 17, 2002.

12. Duquesne Light Company

[Docket No. ER02-1648-000]

Take notice that April 26, 2002, Duquesne Light Company (DLC) filed a Service Agreement dated April 25, 2002 with Dominion Energy Marketing, Inc. under DLC's Open Access Transmission Tariff (Tariff). The Service Agreement adds Dominion Energy Marketing, Inc. as a customer under the Tariff. DLC requests an effective date of April 25, 2002 for the Service Agreement.

Comment Date: May 17, 2002.

13. The Detroit Edison Company

[Docket No. ER02-1649-000]

Take notice that on April 26, 2002, The Detroit Edison Company (Detroit Edison) tendered for filing a notice of termination of a Detroit Edison rate schedule. The rate schedule being terminated is a lease agreement between Detroit Edison and The Toledo Edison Company (Toledo Edison), as amended. Detroit Edison requests that its notice of termination be accepted effective May 31, 2002.

Comment Date: May 17, 2002.

14. LG&E Capital Trimble County LLC

[Docket No. ER02-1650-000]

Take notice that on April 26, 2002, LG&E Capital Trimble County LLC (LCTC) tendered for filing with the Federal Energy Regulatory Commission (Commission) under Section 205 of the Federal Power Act, Rate Schedule FERC No. 1 (tariff) to make wholesale sales of test power at negotiated rates per Mwh up to, but not exceeding, the purchaser's avoided costs in such hour.

Comment Date: May 10, 2002.

15. California Independent System Operator System

[Docket No. ER02-1651-000]

Take notice that on April 26, 2002, pursuant to Section 205 of the Federal Power Act, 16 U.S.C. § 824d, and Section 35.13 of the Federal Energy Regulatory Commission's (FERC or Commission) regulations, 18 CFR 35.13, the California Independent System Operator Corporation (ISO) submitted for filing a pro forma Aggregated Distributed Generation Pilot Project (ADGPP) Participating Generator Agreement (PGA) and related requirements. The pro forma ADGPP PGA relates to a pilot project designed by the ISO and scheduled to be in effect from June 1, 2002, through December 31, 2002, unless terminated earlier. The pilot project will test arrangements for the aggregation of Generating Units with a rated capacity less than 1 MW for purposes of scheduling Energy with the ISO and of participation in the ISO's Supplemental Energy Market. The ISO also filed the ADGPP requirements for informational purposes. In addition, the ISO requested the Commission to extend to pilot project participants the streamlined regulatory procedures it offered until April 30, 2002, to accommodate wholesale sales within the Western Systems Coordinating Council (now WECC) area from generators providing primarily back-up or on-site generation in its March 14 and March 16, 2001, orders in Docket No. EL01-47-000.

The ISO has served copies of the filing upon the Public Utilities Commission of the State of California, the California Energy Commission, the California Electricity Oversight Board, and on all parties with effective Scheduling Coordinator Service Agreements under the ISO Tariff. In addition, the ISO posted the filing on the ISO's Home Page.

Comment Date: May 17, 2002.

16. Illinois Power Company

[Docket No. ER02-1653-000]

Take notice that on April 26, 2002, Illinois Power Company (Illinois Power), 500 South 27th Street, Decatur, Illinois 65251-2200, filed an Interconnection and Operating Agreement entered into with Corn Belt Generation Cooperative (Corn Belt).

Illinois Power requests an effective date of April 17, 2002 for the Agreement and seeks a waiver of the Commission's notice requirement. Illinois Power has served a copy of the filing on Corn Belt.

Comment Date: May 17, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-11347 Filed 5-7-02; 8:45 am]

BILLING CODE 6717-01-P